DEPARTMENT OF AGRICULTURE

Designation for the Topeka, KS; Cedar Rapids, IA; Minot, ND; and Cincinnati, OH Areas; Correction

AGENCY: Grain Inspection, Packers and Stockyards Administration.

ACTION: Notice; correction.

SUMMARY: The U.S. Department of Agriculture, Grain Inspection, Packers and Stockyards Administration published a document in the Federal Register on May 30, 2012, concerning the announcement for the Designation for the Topeka, KS; Cedar Rapids, IA; Minot, ND; and Cincinnati, OH Areas. The document contained an incorrect abbreviation.

FOR FURTHER INFORMATION CONTACT: Eric Jabs, (816) 659-8404.

Correction

In the Federal Register of May 30, 2012, in FR Doc. 2012-13019, on page 31831, in the second column, correct the “Summary” paragraph to read:

SUMMARY:

GIPSA is announcing the designation of Kansas Grain Inspection Service, Inc. (Kansas); Mid-Iowa Grain Inspection, Inc. (Mid-Iowa); Minot Grain Inspection, Inc. (Minot); and Tri-State Grain Inspection Service, Inc. (Tri-State) to provide official services under the United States Grain Standards Act (USGSA), as amended.

Dated: May 31, 2012.
Alan R. Christian,
Acting Administrator, Grain Inspection, Packers and Stockyards Administration.

[FR Doc. 2012-13646 Filed 6-5-12; 8:45 am]

BILLING CODE 3410-KD-P